DEPARTMENT OF ENERGY

Federal Energy Regulatory Commission

[Docket No. EC00-53-000]

Black River Limited Partnership; Errata of February 16, 2000; Notice of Filing Issued February 8, 2000

By this notice, the due date for interventions and protests in the above-referenced proceeding is hereby shortened to and including February 28, 2000.

David P. Boergers,
Secretary.

[FR Doc. 00-4093 Filed 2-18-00; 2:18 am]

BILLING CODE 6717-01-M